DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety regulations. The individual petition is described below, including the party seeking relief, the regulatory provisions involved, the nature of the relief being requested, and the petitioner's arguments in favor of relief.

Red River Valley & Western Railroad Company, and Red River Grain

[Waiver Petition Docket Number FRA-2004-17993]

The Red River Valley & Western Railroad Company (RRVW) and Red River Grain (RRG) petitioners propose to operate a diesel electric locomotive, number RRVW 1213, with laminated safety glass glazing, which is non-compliant with current Federal Safety Regulations. The locomotive, Model SW1200, built by General Motors' Electro Motive Division (EMD) at LaGrange, Illinois in 1959, is proposed to operate in switching and industrial operations. The above mentioned locomotive is owned by RRG of Breckenridge, Minnesota and is also named as the co-petitioner for this waiver. RRVW operates 456 miles of mainline track primarily in North Dakota, with a switching/interchange yard located in Breckenridge, Minnesota. The towns that RRVW operates in and through are sparsely populated rural areas that are primarily utilized for agricultural or ranching purposes. Presently, the maximum track speed is 25 MPH.

The RRVW began operations in 1987 by acquiring branch lines from the Burlington Northern Railroad Company. Since that time, petitioners have reported that there have been no acts of vandalism inflicted on any of their locomotives. This includes rock throwing and gunfire directed at locomotive while moving or stationary.

The petitioners request relief from the requirements of Title 49 Code of Federal Regulations (CFR) 223.11 Requirement for existing locomotives because the locomotive operates in rural areas and is primarily utilized in switching or industrial service. Both petitioners report that their records indicate that no acts of vandalism have occurred to any of their locomotives. The petitioners also report that replacement of the glazing at this time would create an unnecessary financial burden.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-17993) and must be submitted to the Docket Clerk, DOT Docket Management Facility, Room PL-401 (Plaza Level), 400 Seventh Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The statement may also be found at http://dms.dot.gov.

Issued in Washington, DC on August 27, 2004.
Grady C. Cothen, Jr.,
Acting Associate Administrator for Safety.

[FR Doc. 04-20064 Filed 9-1-04; 8:45 am]

BILLING CODE 4910-06-P